DEPARTMENT OF COMMERCE

National Oceanic and Atmospheric Administration

[I.D. 032204C]

Fisheries of the Gulf of Mexico, Southeastern Data, Assessment and Review (SEDAR) Gulf of Mexico Red Snapper Workshops

AGENCY: National Marine Fisheries Service (NMFS), National Oceanic and Atmospheric Administration (NOAA), Commerce.

ACTION: Notice of the SEDAR Workshops for Gulf of Mexico Red Snapper.

SUMMARY: The SEDAR process for the Gulf of Mexico red snapper will consist of a series of three workshops: a data workshop, an assessment workshop, and a review workshop.

DATES: The data workshop will take place April 19-23, 2004; the assessment workshop will take place August 16-20, 2004; and the review workshop will take place October 25-29, 2004. See SUPPLEMENTARY INFORMATION for specific dates and times.

ADDRESSES: The data workshop will be held at the International House Hotel, 221 Camp Street, New Orleans, LA 70130; telephone: (504)553-9550. The assessment workshop will be held at NOAA Fisheries Southeast Fisheries Science Center, 75 Virginia Beach Drive, Miami, FL 33149; telephone: (305) 361-4200. The review workshop will be held at the Holiday Inn Chateau Le Moyne, New Orleans, LA 70112; telephone: (504)581-1313.

FOR FURTHER INFORMATION CONTACT: Mr. Steven Atran or Mr. Stu Kennedy, Gulf of Mexico Fishery Management Council (GMFMC), 3018 North U. S. Highway 301, Tampa, FL 33619. The GMFMC phone numbers are 813-228-2815 or 888-833-1844. Both Mr. Atran and Mr. Kennedy may be reached at the GMFMC e-mail address: gulfcouncil@gulfcouncil.org.

SUPPLEMENTARY INFORMATION: The workshops will take place: April 19-23, 2004, August 16-20, 2004, and October 25-29,2004.

The Gulf of Mexico, South Atlantic, and Caribbean Fishery Management Councils, in conjunction with NOAA Fisheries and the Atlantic and Gulf States Marine Fisheries Commissions, have implemented the SEDAR process, a multi-step method for determining the status of fish stocks in the Southeast Region. SEDAR includes three workshops: (1) data workshop, (2) assessment workshop, and (3) review workshop. The product of the data workshop and the assessment workshop is a stock assessment report, which describes the fisheries, evaluates the status of the stock, estimates biological benchmarks, projects future population conditions, and recommends research and monitoring needs. The assessment report is independently peer reviewed at the review workshop. The products of the review workshop are a Consensus Summary Report, which reports Panel opinions regarding the strengths and weaknesses of the stock assessment and input data, and an Advisory Report, which summarizes the status of the stock. Participants for SEDAR workshops are appointed by the Regional Fishery Management Councils. Participants include data collectors, database managers, stock assessment scientists, biologists, fisheries researchers, fishermen, environmentalists, Council members, International experts, and staff of Councils, Commissions, and state and Federal agencies.

Gulf of Mexico Red Snapper SEDAR Workshop Schedule

April 19-23, 2004-SEDAR Data Workshop (New Orleans)

April 19, 2004, 2 p.m.-5:30 p.m.

April 20-22, 2004, 8:30 a.m.-5:30 p.m.

April 23, 2004, 8:30 a.m.-1 p.m.

An assessment data set will be developed during the data workshop. The assessment data set will include catch statistics, discard estimates, length and age composition, fishery descriptions, biological sampling intensity, fishery dependent and fishery independent monitoring results, and life history characteristics. Workshop participants will draft preliminary Assessment Report sections.

August 16-20, 2004 - SEDAR Assessment Workshop - (Miami)

August 16, 2004, 2:00 p.m. - 5:30 p.m.

August 17-19, 2004, 8:30 a.m. - 5:30 p.m.

August 20, 2004, 8:30 a.m. - - 1:00 p.m.

Using the data set collected from the data workshop, participants will develop population models, evaluate the status of the stock, estimate population benchmarks and Sustainable Fisheries Act criteria, and complete the Assessment Report.

October 25-29, 2004 - SEDAR Review Workshop - (New Orleans)

October 25, 2004, 2 p.m. - 5:30 p.m.

October 26 - 28, 2004, 8:30 a.m. - 5:30 p.m.

October 29, 2004, 8:30 a.m. - 1 p.m.

The review workshop is an independent peer review of the assessment developed during the data and assessment workshops. Workshop Panelists will review the assessment and document their consensus opinions regarding assessment issues in a Consensus Summary Report. Panelists will summarize the assessment results in an Advisory Report.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Gulf of Mexico Fishery Management Council office (see FOR FURTHER INFORMATION CONTACT) at least 5 business days prior to each workshop.

Dated: March 26, 2004.
Alan D. Risenhoover,
Acting Director, Office of Sustainable Fisheries, National Marine Fisheries Service.

[FR Doc. 04-7251 Filed 3-30-04; 8:45 am]

BILLING CODE 3510-22-S